DEPARTMENT OF DEFENSE

Office of the Secretary

32 CFR Part 246

[Docket ID: DOD-2023-OS-0058]

RIN 0790-AJ63

Stars and Stripes Media Organization

AGENCY: Office of the Assistant to the Secretary of Defense for Public Affairs (OATSD(PA)), Department of Defense (DoD).

ACTION: Final rule.

SUMMARY: This final rule removes DoD's regulation concerning the internal procedures of the Stars and Stripes Media Organization (often abbreviated as Stripes). The regulation is unnecessary and may be removed from the Code of Federal Regulations (CFR) because it does not have an impact or burden to the public.

DATES: This rule is effective on January 15, 2026.

FOR FURTHER INFORMATION CONTACT: Kyle Combs, (703) 695-6290.

SUPPLEMENTARY INFORMATION:

I. Background

This final rule removes the DoD regulation at 32 CFR part 246, “Stars and Stripes (S&S) Newspaper and Business Operations,” because it addresses internal policy, responsibilities, and procedures for Stripes. The rule was published on April 22, 1994 (59 FR 19137). Although a proposed rule was published in the Federal Register (89 FR 30296-30299) on April 23, 2024, for a 60-day public comment period to update its content and make the public aware of the unique mission of Stripes, after further review of the proposed rule and the public comments, which largely addressed internal procedures, the Department has determined this rule is not necessary. Rulemaking under the Administrative Procedure Act is not required and internal policy and procedures governing Stripes will continue to be published in DoD Directive 5122.11, “Stars and Stripes (S&S) Newspapers and Business Operations” (available at https://www.esd.whs.mil/Portals/54/Documents/DD/issuances/dodd/512211p.pdf).

II. Discussion of Public Comments and DoD Responses

During the public comment period for the proposed rule, a total of 91 comments were received. Three of the comments were not related to the rule and are not discussed in this preamble. In general, commenters were supportive of the Stripes program. The majority of the 88 public comments advocated for Stripes employees to be allowed to make Freedom of Information Act (FOIA) requests, to have unescorted access to DoD facilities to cover events or activities open to those with installation access even if commercial media did not have the same unescorted access, or to republish previously classified or controlled unclassified materials. One commenter raised a concern regarding Stripes employees being able to make FOIA requests in their official capacity because section 551 of title 5, United States Code, excludes a Federal agency from the definition of “person” for the purposes of obtaining information under FOIA. These comments will be considered in the update to DoD Directive 5122.11.

Some of the comments also advocated for not changing the existing rule because of perceived concerns that changes would restrict Stripes in continuing its mission of providing editorially independent news and information. However, the existing rule is outdated and does not reflect the current operation of Stripes, only referencing Stripes as a hardcopy/print publication and not the multi-platform (including web-based) publication it has become.

III. Notice-and-Comment Rulemaking Is Not Required

It has been determined that publication of this rule removal for public comment is unnecessary because the underlying rule addresses internal agency policies and procedures and its removal has no impact on the public.

IV. Regulatory Impact Analysis

This rule is administrative in nature with no requirements imposed on the public. This rule does not affect the cost of the program or require changes on behalf of Stripes subscribers. Stripes is partially funded through revenue-generating activities as a nonappropriated fund instrumentality. While Stripes also receives some appropriated funding, it is required to be funded to the maximum extent possible through the sale and distribution of the newspapers, other products, authorized advertising, and other sources of revenue. These internal DoD procedures are outlined in DoD Directive 5122.11.

V. Regulatory Compliance Analysis

A. Executive Order 12866, “Regulatory Planning and Review,” and Executive Order 13563, “Improving Regulation and Regulatory Review”

Executive Orders 12866 and 13563 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This final rule is not a significant regulatory action under Executive Order 12866.

B. Executive Order 14192, “Unleashing Prosperity Through Deregulation”

This rule is not an Executive Order 14192 regulatory action because this rule is not significant under Executive Order 12866.

C. Congressional Review Act (CRA) (5 U.S.C. 801 et seq.)

This action is subject to the CRA (5 U.S.C. 801 et seq.), and DoD will submit a rule report to each House of Congress and to the Comptroller General of the United States. This action is not a “major rule” as defined by 5 U.S.C. 804(2).

D. Public Law 96-354, “Regulatory Flexibility Act” (5 U.S.C. 601 et seq.)

The Assistant to the Secretary of Defense for Public Affairs certified that this rule is not subject to the Regulatory Flexibility Act (5 U.S.C. 601 et seq.) because the rule only addresses the operations of Stripes, and it would not, if promulgated, have a significant economic impact on a substantial number of small entities.

E. Sec. 202, Public Law 104-4, “Unfunded Mandates Reform Act” (UMRA)

This action does not contain an unfunded mandate of $100 million or more (in 1995 dollars) in any one year as described in UMRA, 2 U.S.C. 1531-1538, and does not significantly or uniquely affect small governments.

F. Public Law 96-511, “Paperwork Reduction Act” (44 U.S.C. 3501 et seq.)

This rule does not impose reporting or recordkeeping requirements under the Paperwork Reduction Act of 1995.

G. Executive Order 13132, “Federalism”

This action will not have federalism implications as specified in Executive Order 13132 (64 FR 43255, August 10, 1999), because it is not expected to have a substantial direct effect on States, on the relationship between the national government and the States, or on the distribution of power and responsibilities among the various levels of government. Accordingly, the requirements of Executive Order 13132 do not apply to this action.

H. Executive Order 13175, “Consultation and Coordination With Indian Tribal Governments”

This action will not have Tribal implications as specified in Executive Order 13175 (65 FR 67249, November 9, 2000), because it is not expected to have substantial direct effects on Indian Tribes, significantly or uniquely affect the communities of Indian Tribal governments and does not involve or impose any requirements that affect Indian Tribes. Accordingly, the requirements of Executive Order 13175 do not apply to this action.

List of Subjects in 32 CFR Part 246

Government publications, Newspapers and magazines.

PART 246—[REMOVED]

Accordingly, by the authority of 5 U.S.C. 301, 32 CFR part 246 is removed.

Dated: January 13, 2026.
Aaron T. Siegel,
Alternate OSD Federal Register Liaison Officer, Department of Defense.

[FR Doc. 2026-00695 Filed 1-14-26; 8:45 am]

BILLING CODE 6001-FR-P